DEPARTMENT OF JUSTICE

Notice of Lodging of Consent Decree Under the Comprehensive Environmental Response, Compensation, and Liability Act

Notice is hereby given that on February 14, 2012, the United States lodged a proposed Consent Decree with Defendants Bradley Mining Company (“BMC”) and Frederick Bradley, Trustee for the Worthen Bradley Family Trust (“Bradley Trust”), in United States v. Bradley Mining Company, et al., Civil Action No. 3:08-CV-03968 TEH (N.D. Cal.), with respect to the Sulphur Bank Mercury Mine Superfund Site in Lake County, California (“Sulphur Bank Site”), and with Defendant BMC in a consolidated case, United States v. Bradley Mining Company, Civil Action No. 3:08-CV-05501 TEH (N.D. Cal.), with respect to the Stibnite Mine Site in Valley County, Idaho (“Stibnite Mine Site”).

The proposed Consent Decree resolves the following claims: (1) on August 19, 2008, the United States, on behalf of the United States Environmental Protection Agency (“EPA”), filed a complaint under section 107 of the Comprehensive Environmental Response, Compensation, and Liability Act (“CERCLA”), 42 U.S.C. 9607, against BMC and Bradley Trust, seeking recovery of response costs incurred by EPA related to releases of hazardous substances at the Sulphur Bank Site; and (2) on September 26, 2008, the United States, on behalf of EPA and the United States Department of Agriculture Forest Service (“Forest Service”), filed a complaint under CERCLA section 107 against BMC seeking recovery of response costs incurred by EPA and the Forest Service related to the releases of hazardous substances at the Stibnite Mine Site. The proposed Consent Decree also resolves claims in the Sulphur Bank case brought by the Elem Tribe against BMC, the Bradley Trust, and the United States for cost recovery under CERCLA section 107(a) as well as damages for injury to, destruction of, or loss of natural resources related to the Sulphur Bank Site and the costs of any natural resource damage assessments under CERCLA section 107(a)(4)(c). Finally, the Consent Decree resolves counterclaims against the United States brought by BMC and Bradley Trust in the Sulphur Bank case and by BMC in the Stibnite Mine case.

Financial information provided by the Settling Defendants indicated an inability to pay. However, pursuant to the proposed Consent Decree, the United States will receive a payment of $505,000 from BMC's insurer, a percentage of future insurance recoveries and future income, and the proceeds from the future sale of parcels of land. In addition, Defendant Bradley Trust will transfer property to the Elem Tribe. In exchange, the proposed Consent Decree provides Bradley Trust with a covenant not to sue and contribution protection for the Sulphur Bank Site, and provides BMC with a covenant not to sue and contribution protection for the Sulphur Bank Site, the Stibnite Mine Site, and five additional mining sites: the Mt. Diablo Mercury Mine in Contra Costa County, California; the Springfield Scheelite Mine in Valley County, Idaho; the IMA Mine in Lemhi County, Idaho; the Bretz Mine in Malheur County, Oregon; and the Opalite Mine in Malheur County, Oregon. Finally, settling federal agencies will pay $7.2 million for EPA's response costs at the Sulphur Bank Site and will receive a covenant not to sue and contribution protection for the Sulphur Bank Site and the Stibnite Mine Site.

The Department of Justice will receive, for a period of thirty (30) days from the date of this publication, comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. Bradley Mining Company, et al., D.J. Ref. 90-11-3-07593.

The Consent Decree may be examined at U.S. EPA Region IX at 75 Hawthorne Street, San Francisco, California 94105. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. In requesting a copy from the Consent Decree Library, please enclose a check in the amount of $17.75 (without appendices) or $32.50 (with appendices) (25 cents per page reproduction cost) payable to the U.S. Treasury or, if by email or fax, forward a check in that amount to the Consent Decree Library at the stated address.

Henry Friedman,
Assistant Chief, Environmental Enforcement Section, Environment and Natural Resources Division.

[FR Doc. 2012-4114 Filed 2-22-12; 8:45 am]

BILLING CODE 4410-15-P